DEPARTMENT OF ENERGY

Federal Energy Regulatory Commission

Combined Notice of Filings #1

Take notice that the Commission received the following electric corporate filings:

Docket Numbers: EC15-35-000.

Applicants: AltaGas Power Holdings (U.S.) Inc., Veresen U.S. Power Inc.

Description: Joint Application for Authorization Under Section 203 of the Federal Power Act, Request for Expedited Consideration and Confidential Treatment of AltaGas Power Holdings (U.S.) Inc., et al.

Filed Date: 11/21/14.

Accession Number: 20141121-5261

Comments Due: 5 p.m. ET 12/12/14.

Take notice that the Commission received the following electric rate filings:

Docket Numbers: ER12-162-009; ER11-3876-012; ER11-2044-012; ER10-2611-010.

Applicants: Bishop Hill Energy II LLC, Cordova Energy Company LLC, MidAmerican Energy Company, Saranac Power Partners, L.P.

Description: Notification of Change in Status of the Berkshire Hathaway Parties.

Filed Date: 11/21/14.

Accession Number: 20141121-5248.

Comments Due: 5 p.m. ET 12/12/14.

Docket Numbers: ER15-162-001.

Applicants: Southwest Power Pool, Inc.

Description: Tariff Amendment per 35.17(b): 2881R1 Substitute City of Chanute, KS NITSA NOA to be effective 8/1/2014.

Filed Date: 11/24/14.

Accession Number: 20141124-5101.

Comments Due: 5 p.m. ET 12/15/14.

Docket Numbers: ER15-428-001.

Applicants: Nevada Power Company.

Description: Compliance filing per 35: Errata to Order No. 1000 Third Regional Compliance Filing to be effective 1/1/2015.

Filed Date: 11/21/14.

Accession Number: 20141121-5218.

Comments Due: 5 p.m. ET 12/12/14.

Docket Numbers: ER15-463-000.

Applicants: San Gorgonio Westwinds II, LLC.

Description: Initial rate filing per 35.12, MBR Application to be effective 1/9/2015.

Filed Date: 11/21/14.

Accession Number: 20141121-5202.

Comments Due: 5 p.m. ET 12/12/14.

Docket Numbers: ER15-464-000.

Applicants: Idaho Power Company.

Description: § 205(d) rate filing per 35.13(a)(2)(iii): Order No. 676-H Waiver Request and Compliance Filing to be effective 2/1/2015.

Filed Date: 11/24/14.

Accession Number: 20141124-5008.

Comments Due: 5 p.m. ET 12/15/14.

Docket Numbers: ER15-465-000.

Applicants: Midcontinent Independent System Operator, Inc.

Description: Request for Waiver of Midcontinent Independent System Operator, Inc.

Filed Date: 11/21/14.

Accession Number: 20141121-5245.

Comments Due: 5 p.m. ET 12/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2014.
Nathaniel J. Davis, Sr.,
Deputy Secretary.

[FR Doc. 2014-28470 Filed 12-3-14; 8:45 am]

BILLING CODE 6717-01-P